DEPARTMENT OF HOMELAND SECURITY

Coast Guard

33 CFR Part 165

[Docket No. USCG-2015-0347]

Safety Zone; Southern California Annual Fireworks Events for the San Diego Captain of the Port Zone.

AGENCY: Coast Guard, DHS.

ACTION: Notice of enforcement of regulation.

SUMMARY: The Coast Guard will enforce a Safety Zone on the waters of Mission Bay, California for the 2015 Sea World Summer Fireworks displays held on specific evenings from Memorial Day to Labor Day. This action is necessary to provide for the safety of the marine event crew, spectators, safety vessels, and general users of the waterway. During the enforcement period, persons and vessels are prohibited from entering into, transiting through, or anchoring within this regulated area unless authorized by the Captain of the Port, or his designated representative.

DATES: The regulations for the safety zone listed in 33 CFR 165.1123, Table 1, Item 7, will be enforced from 8:30 p.m. to 10:30 p.m. on several dates between May 23, 2015, and September 6, 2015.

FOR FURTHER INFORMATION CONTACT: If you have questions on this publication, call or email Petty Officer Nick Bateman, Waterways Management, U.S. Coast Guard Sector San Diego, CA; telephone (619) 278-7656, email D11-PF-MarineEventsSanDiego@uscg.mil.

SUPPLEMENTARY INFORMATION: The Coast Guard will enforce the safety zone in Mission Bay, California, for the annual 2015 Sea World San Diego Fireworks Display (Item 7 on Table 1 of 33 CFR 165.1123), on May 23 through May 25, June 13 through June 30, July 1 through July 31, August 1 through August 9, August 15, August 22, August 29, September 5, and September 6, 2015. The safety zone is located off of the south side of Fiesta Island adjacent to Sea World.

Under the provisions of 33 CFR 165.1123, persons and vessels are prohibited during the fireworks display times from entering into, transiting through, or anchoring within the 800 foot regulated area safety zone around the fireworks barge, located in approximate position 32°46′03″ N., 117°13′11″ W., unless authorized by the Captain of the Port, or his designated representative. Persons or vessels desiring to enter into or pass through the safety zone may request permission from the Captain of the Port or a designated representative. The Coast Guard Captain of the Port or designated representative can be reached via VHF CH 16 or at (619) 278-7033. If permission is granted, all persons and vessels shall comply with the instructions of the Captain of the Port or designated representative. Spectator vessels may safely transit outside the regulated area, but may not anchor, block, loiter, or impede the transit of official fireworks support, event vessels or enforcement patrol vessels. The Coast Guard may be assisted by other Federal, State, or local law enforcement agencies in enforcing this regulation.

This notice is issued under authority of 5 U.S.C. 552(a) and 33 CFR 165.1123. In addition to this notice in the Federal Register, the Coast Guard will provide the maritime community with advance notification of this enforcement period via the Local Notice to Mariners, Broadcast Notice to Mariners, and local advertising by the event sponsor.

If the Coast Guard determines that the regulated area need not be enforced for the full duration stated on this notice, then a Broadcast Notice to Mariners or other communications coordinated with the event sponsor will grant general permission to enter the regulated area.

Dated: May 8, 2015.
J.A. Janszen,
Captain, U.S. Coast Guard, Acting, Captain of the Port San Diego.

[FR Doc. 2015-12555 Filed 5-22-15; 8:45 am]

BILLING CODE 9110-04-P